DEPARTMENT OF TRANSPORTATION

Federal Transit Administration

Notice of Limitation on Claims Against Proposed Public Transportation Projects

AGENCY: Federal Transit Administration (FTA), DOT.

ACTION: Notice of limitation on claims.

SUMMARY: This notice announces final environmental actions taken by the Federal Transit Administration (FTA) for the following projects: (1) Colorado Department of Transportation, U.S. 36 Corridor, Boulder, CO; (2) Ames Transit Agency, Intermodal Transit Facility, Ames, IA; (3) Seldovia Village Tribe, Seldovia Bay Ferry Homer Dock and Pier Project, Seldovia, AK; (4) Santa Clara Valley Transportation Authority, Silicon Valley Rapid Transit Corridor Project, Santa Clara County, CA; (5) Metropolitan Transit Authority of Harris County, Texas, University Corridor Fixed Guideway Transit Project, Houston, TX; (6) Massachusetts Bay Transportation Authority, Science Park/West End Station, Boston, MA; (7) Ramsey County Regional Railroad Authority, Saint Paul Union Depot, Saint Paul, MN; (8) Florida Department of Transportation, Central Florida Commuter Rail Transit, Orlando, FL; and (9) Lehigh and Northampton Transportation Authority, Easton Intermodal Transportation Center, Easton, PA. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation projects will be barred unless the claim is filed on or before March 22, 2011.

FOR FURTHER INFORMATION CONTACT: Katie Grasty, Environmental Protection Specialist, Office of Planning and Environment, 202-366-9139, or Christopher Van Wyk, Attorney-Advisor, Office of Chief Counsel, 202-366-1733. FTA is located at 1200 New Jersey Avenue, SE., Washington, DC 20590.

Office hours are from 9 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with each project to comply with the National Environmental Policy Act (NEPA) and in other documents in the FTA administrative record for the project. Interested parties may contact either the project sponsor or the relevant FTA Regional Office for more information on these projects. Contact information for FTA's Regional Offices may be found at http://www.fta.dot.gov.

This notice applies to all FTA decisions on the listed projects as of the issuance date of this notice and all laws under which such actions were taken, including, but not limited to, NEPA [42 U.S.C. 4321-4375], section 4(f) of the Department of Transportation Act of 1966 [49 U.S.C. 303], section 106 of the National Historic Preservation Act [16 U.S.C. 470f], and the Clean Air Act [42 U.S.C. 7401-7671q]. This notice does not, however, alter or extend the limitation period of 180 days for challenges of project decisions subject to previous notices published in the Federal Register. For example, this notice does not extend the limitation on claims announced for earlier decisions on the U.S. 36 Corridor Project or the Central Florida Commuter Rail Transit project.

The projects and actions that are the subject of this notice are:

1. Project name and location: U.S. 36 Corridor, Boulder, CO. Project sponsor: Colorado Department of Transportation. Project description: The project's purpose is to improve mobility along the U.S. 36 corridor from Interstate 25 in Adams County to Foothills Parkway/Table Mesa Drive in Boulder. The project includes the reconstruction of U.S. 36 road surface, one buffer-separated managed lane, bus rapid transit (BRT) ramp stations, auxiliary lanes between most interchanges, a bikeway the entire length of the project, and alternative transportation strategies. Final agency actions: Section 106 Memorandum of Agreement dated December 2009; project-level air quality conformity determination; Section 4(f) de minimis impact determination; and a ROD dated December 2009. Supporting documentation: FEIS U.S. 36 Corridor dated October 2009.

2. Project name and location: Ames Intermodal Transit Facility, Ames, IA. Project sponsor: Ames Transit Agency. Project description: The project will provide multiple transportation uses on a five-acre site, including bus bays, taxi stands, and bike paths. Final agency actions: Documented Categorical Exclusion designation; Section 106 finding of no adverse effect. Supporting documentation: Documented Categorical Exclusion dated March 2010.

3. Project name and location: Seldovia Bay Ferry Homer Dock and Pier Project, Seldovia, AK. Project sponsor: Seldovia Village Tribe. Project description: The project will retrofit the City of Homer Small Boat Harbor docks to provide ADA access and facilitate light-freight service for passengers on the Seldovia Bay Ferry vessel. The improvements include the construction of a new passenger pier, a gangway, and light-freight pier. Final agency actions: Section 106 finding of no adverse effect; Section 4(f) no use determination; and a Finding of No Significant Impact (FONSI) signed June 2010. Supporting documentation: Environmental Assessment dated April 2010.

4. Project name and location: Silicon Valley Rapid Transit Corridor Project, Santa Clara County, CA. Project sponsor: Santa Clara Valley Transportation Authority. Project description: The project includes the design and construction of a 9.9 mile extension of the Bay Area Rapid Transit (BART) system from the Warm Spring station in Fremont to new stations in Milipitas and San Jose. Final agency actions: Section 106 Programmatic Agreement dated March 2010; project-level air quality conformity determination; Section 4(f) determination; and a Record of Decision dated June 2010. Supporting documentation: FEIS dated April 2010.

5. Project name and location: University Corridor Fixed Guideway Transit Project, Houston, TX. Project sponsor: Metropolitan Transit Authority of Harris County, Texas. Project description: The project is an 11.36 mile light rail transit corridor that connects Hillcroft Transit Center and the Eastwood Transit Center. Final agency actions: Section 106 finding of no adverse effect; project-level air quality conformity determination; Section 4(f) de minimis impact determination; and a Record of Decision dated July 2010. Supporting documentation: FEIS dated January 2010.

6. Project name and location: Science Park/West End Station, Boston, MA. Project sponsor: Massachusetts Bay Transportation Authority. Project description: The project will renovate the existing Science Park/West End Station to comply with ADA. The renovations include the construction of two elevator towers and lobbies, an elevator connecting bridge, new grade level stairs, new station platforms, and rehabilitation of stairway enclosures. Final agency actions: Section 106 Memorandum of Agreement; Section 4(f) determination; and a Finding of No Significant Impact (FONSI) signed July 2010. Supporting documentation: Environmental Assessment dated June 2009.

7. Project name and location: Saint Paul Union Depot, St. Paul, MN. Project sponsor: Ramsey County Regional Railroad Authority. Project description: The project is a rehabilitation and reuse of Saint Paul's historic Union Depot as a multi-modal transit hub. Union Depot will be restored as a passenger transportation terminal by providing services for Amtrak, Greyhound, and Jefferson Line buses, Metro buses, taxi service, bicycle services, and pedestrian connections. Final agency actions: Section 106 Programmatic Agreement; Section 4(f) determination; and a Finding of No Significant Impact (FONSI) signed April 2010. Supporting documentation: Environmental Assessment dated August 2009.

8. Project name and location: Central Florida Commuter Rail Transit, Orlando, FL. Project sponsor: Florida Department of Transportation (FDOT). Project description: FDOT is proposing to operate a commuter rail project on approximately 61 miles of existing freight rail tracks that traverse Orange, Seminole, Volusia, and Osceola counties in the greater metropolitan area of Orlando, Florida. The project will involve the construction of 17 stations and a new vehicle storage and maintenance facility. This action is on the second Supplemental Environmental Assessment (SEA) and related supporting documentation for the Central Florida Commuter Rail Transit (CFCRT) project. The revisions made in the second SEA include changes to seven stations and a change in vehicle technology. This SEA was performed subsequent to the Finding of No Significant Impact (FONSI) issued by FTA on April 27, 2007, and first Addendum to the FONSI issued on July 22, 2008. Final agency actions: Finding of No Significant Impact (FONSI) signed September 2010. Supporting documentation: Second Supplemental Environmental Assessment dated April 2010.

9. Project name and location: Easton Intermodal Transportation Center, Easton, PA. Project sponsor: The project is a 2.4-acre intermodal transportation center. The center will consist of a bus transfer center, an elevated parking structure, an at-grade parking area, three access points, a three-story commercial building, and a park. Final agency actions: Section 106 finding of no adverse effect; project-level air quality conformity determination; Section 4(f) no use determination; and a Finding of No Significant Impact (FONSI) signed September 2010. Supporting documentation: Environmental Assessment dated July 2010.

Issued on: September 15, 2010.
Susan Borinsky,
Associate Administrator for Planning and Environment, Washington, DC.

[FR Doc. 2010-23733 Filed 9-22-10; 8:45 am]

BILLING CODE P